FEDERAL MINE SAFETY AND HEALTH REVIEW COMMISSION

Sunshine Act Notice

May 8, 2014.

TIME AND DATE: 10:00 a.m., Thursday, May 22, 2014.

PLACE: The Richard V. Backley Hearing Room, Room 511N, 1331 Pennsylvania Avenue NW., Washington, DC 20004 (entry from F Street entrance)

STATUS: Open .

MATTERS TO BE CONSIDERED: The Commission will hear oral argument in the following matters: Brody Mining, LLC v. Secretary of Labor, Docket Nos. WEVA 2014-82-R, et al. (Issues include whether the Secretary's pattern of violations (POV) rule is facially valid, whether notice-and-comment rulemaking was required to establish POV screening criteria, and whether the Secretary impermissibly applied the POV rule retroactively.)

Any person attending this oral argument who requires special accessibility features and/or auxiliary aids, such as sign language interpreters, must inform the Commission in advance of those needs. Subject to 29 CFR 2706.150(a)(3) and § 2706.160(d).

CONTACT PERSON FOR MORE INFORMATION: Jean Ellen (202) 434-9950/(202) 708-9300 for TDD Relay/1-800-877-8339 for toll free.

Emogene Johnson,
Administrative Assistant.

[FR Doc. 2014-11051 Filed 5-9-14; 11:15 am]

BILLING CODE 6735-01-P